DEPARTMENT OF TRANSPORTATION

Office of the Secretary

Notice of Applications for Certificates of Public Convenience and Necessity and Foreign Air Carrier Permits Filed Under Subpart B (Formerly Subpart Q) During the Week Ending October 19, 2001

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-1996-2016.

Date Filed: October 15, 2001.

Due Date for Answers, Conforming Applications, or Motion to Modify Scope: November 5, 2001.

Description: Application of Continental Airlines, Inc., pursuant to 49 U.S.C. section 41102 and subpart B, requesting renewal of its Route 739 certificate, authorizing Continental to provide scheduled air transportation of persons, property, and, mail between New York/Newark and the coterminal points Sao Paulo and Rio de Janeiro.

Docket Number: OST-1996-1648.

Date Filed: October 18, 2001.

Due Date for Answers, Conforming Applications, or Motion to Modify Scope: November 8, 2001.

Description: Application of Continental Airlines, Inc., pursuant to 49 U.S.C. section 41102 and subpart B, for renewal of its Route 733 certificate authorizing Continental to provide scheduled foreign air transportation of persons, property, and mail between a point or points in the United States and a point or points in the United Kingdom, excluding London's Heathrow and Gatwick airports.

Dorothy Y. Beard,
Federal Register Liaison.

[FR Doc. 01-27738 Filed 11-2-01; 8:45 am]

BILLING CODE 4910-62-P